DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of October 16, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Yavapai County, Arizona, and Incorporated Areas
Docket No.: FEMA-B-1345
Unincorporated Areas of Yavapai County | Yavapai County Flood Control District Office, 1120 Commerce Drive, Prescott, AZ 86305.
Dubois County, Indiana, and Incorporated Areas
Docket No.: FEMA-B-1310
City of Huntingburg | City Hall, 508 East 4th Street, Huntingburg, IN 47542.
City of Jasper | City Hall, 610 Main Street, Jasper, IN 47547.
Town of Ferdinand | Town Hall, 2065 Main Street, Ferdinand, IN 47532.
Unincorporated Areas of Dubois County | Dubois County Courthouse, One Courthouse Square, Jasper, IN 47546.
Wells County, Indiana, and Incorporated Areas
Docket No.: FEMA-B-1292
City of Bluffton | Wells County Area Plan Commission, 223 West Washington Street, Room 211, Bluffton, IN 46714.
Town of Markle | Huntington Department of Community Development, Huntington County Courthouse, Room 204, 201 North Jefferson Street, Huntington, IN 46750.
Town of Ossian | Wells County Area Plan Commission, 223 West Washington Street, Room 211, Bluffton, IN 46714.
Town of Vera Cruz | Wells County Area Plan Commission, 223 West Washington Street, Room 211, Bluffton, IN 46714.
Town of Zanesville | Wells County Area Plan Commission, 223 West Washington Street, Room 211, Bluffton, IN 46714.
Unincorporated Areas of Wells County | Wells County Area Plan Commission, 223 West Washington Street, Room 211, Bluffton, IN 46714.
Story County, Iowa and Incorporated Areas
Docket No.: FEMA-B-1340
City of Ames | Department of Planning and Housing, City Hall, 515 Clarke Avenue, Ames, IA 50010.
Unincorporated Areas of Story County | Story County Planning and Zoning Department, 900 Sixth Street, Nevada, IA 50201.
Warren County, Iowa, and Incorporated Areas
Docket No.: FEMA-B-1340
City of Carlisle | City Hall, 195 North First Street, Carlisle, IA 50047.
City of Cumming | City Hall, 649 North 44th Street, Cumming, IA 50061.
City of Des Moines | City Hall, 400 Robert D Ray Drive, Des Moines, IA 50309.
City of Norwalk | City Hall, 705 North Avenue, Norwalk, IA 50211.
Unincorporated Areas of Warren County | County Courthouse, 301 North Buxton Street, Suite 212, Indianola, IA 50125.
Chippewa County, Michigan (All Jurisdictions)
Docket No.: FEMA-B-1342
Bay Mills Indian Community | Bay Mills Indian Community Tribal Office, 12140 West Lakeshore Drive, Brimley, MI 49715.
Charter Township of Kinross | Kinross Charter Township Hall, 4884 West Curtis Street, Kincheloe, MI 49788.
City of Sault Sainte Marie | City Hall, 225 East Portage Avenue, Sault Sainte Marie, MI 49783.
Township of Bay Mills | Bay Mills Township Hall, 14740 West Lakeshore Drive, Brimley, MI 49715.
Township of Bruce | Bruce Township Hall, 3156 East 12 Mile Road, Dafter, MI 49724.
Township of Dafter | Township of Dafter Map Repository, 10184 South Wilson Drive, Dafter, MI 49724.
Township of DeTour | Municipal Offices, 260 South Superior Street, DeTour Village, MI 49725.
Township of Drummond Island | Township Hall, 29935 East Pine Street, Drummond Island, MI 49726.
Township of Hulbert | Township Hall, 37685 West 4th Street, Hulbert, MI 49748.
Township of Pickford | Township Hall, 155 East Main Street, Pickford, MI 49774.
Township of Raber | Raber Township Hall, 16315 East M-48, Goetzville, MI 49736.
Township of Soo | Soo Township Hall, 639 3 1/2 Mile Road, Sault Sainte Marie, MI 49783.
Township of Sugar Island | Sugar Island Community Center, 6401 East 1 1/2 Mile Road, Sault Sainte Marie, MI 49783.
Township of Superior | Superior Township Hall, 7049 South M-221, Brimley, MI 49715.
Township of Whitefish | Whitefish Township Hall, 7052 North M-123, Paradise, MI 49768.
Village of DeTour | Village Hall, 260 South Superior Street, DeTour Village, MI 49725.
Bradford County, Pennsylvania (All Jurisdictions)
Docket No.: FEMA-B-1311
Borough of Alba | Alba Borough Hall, Secretary's Office, 3536 Minnequa Main Road, Canton, PA 17724.
Borough of Athens | Municipal Building, 2 South River Street, Athens, PA 18810.
Borough of Burlington | Burlington Borough Council President's Office, 480 Berwick Turnpike, Ulster, PA 18850.
Borough of Canton | Borough Office, 4 North Center Street, Canton, PA 17724.
Borough of LeRaysville | Borough Hall, 130 East Street, LeRaysville, PA 18829.
Borough of Monroe | Monroe Borough Hall, 149 Dalpiaz Drive, Monroeton, PA 18832.
Borough of New Albany | Borough Hall, 548 Front Street, New Albany, PA 18833.
Borough of Rome | Borough Building, 926 Main Street, Rome, PA 18837.
Borough of Sayre | Borough Office, 110 West Packer Avenue, Sayre, PA 18840.
Borough of South Waverly | Borough Hall, 2523 Pennsylvania Avenue, South Waverly, PA 18840.
Borough of Sylvania | Borough Community Building, 2553 Sylvania Road, Sylvania, PA 16945.
Borough of Towanda | Municipal Building, 724 Main Street, Towanda, PA 18848.
Borough of Troy | Borough Office, 49 Elmira Street, Troy, PA 16947.
Borough of Wyalusing | Borough Hall, 50 Senate Street, Wyalusing, PA 18853.
Township of Albany | Albany Township Secretary's Office, 817 Dog Farm Road, New Albany, PA 18833.
Township of Armenia | Township of Armenia, 2162 Fallbrook Road, Troy, PA 16947.
Township of Asylum | Asylum Township Building, 19981 Route 187, Towanda, PA 18848.
Township of Athens | Athens Township Municipal Building, 45 Herrick Avenue, Sayre, PA 18840.
Township of Burlington | Burlington Township Building, 2030 Weed Hill Road, Towanda, PA 18848.
Township of Canton | Township Building, 2343 Route 414, Canton, PA 17724.
Township of Columbia | Township of Columbia, Bradley Hall, 3290 Watkins Hill Road, Columbia Cross Roads, PA 16914.
Township of Franklin | Franklin Township Building, 31 Grange Road, Monroeton, PA 18832.
Township of Granville | Granville Township Secretary's Office, 487 Saxton Hill Road, Granville Summit, PA 16926.
Township of Herrick | Herrick Township Building, 399 Leisure Lake Road, Wyalusing, PA 18853.
Township of LeRoy | LeRoy Township Secretary's Office, 7854 Southside Road, Canton, PA 17724.
Township of Litchfield | Litchfield Township Secretary's Office, 168 Hunsinger Overlook Lane, Athens, PA 18810.
Township of Monroe | Bradford County Office of Planning, 29 Vankuren Drive, Suite 1, Towanda, PA 18848.
Township of North Towanda | North Towanda Township Office, 477 Reuter Boulevard, Towanda, PA 18848.
Township of Orwell | Orwell Township Hall, 619 South Hill Road, Wyalusing, PA 18853.
Township of Overton | Township of Overton, 80 McGroarty Lane, New Albany, PA 18833.
Township of Pike | Pike Township Building, 1514 Haighs Pond Road, Rome, PA 18837.
Township of Ridgebury | Ridgebury Township Municipal Building, 13278 Berwick Turnpike, Gillett, PA 16925.
Township of Rome | Rome Township Building, 28083 Route 187, Wysox, PA 18854.
Township of Sheshequin | Sheshequin Township Office, 1774 North Middle Road, Ulster, PA 18850.
Township of Smithfield | Smithfield Township Municipal Building, 48 Factory Drive, East Smithfield, PA 18817.
Township of South Creek | South Creek Township Secretary's Office, 35839 Route 14, Gillett, PA 16925.
Township of Springfield | Springfield Township Building, 3431 Springfield Road, Columbia Crossroads, PA 16914.
Township of Standing Stone | Standing Stone Township Building, 35165 Route 6, Wysox, PA 18854.
Township of Stevens | Stevens Township Building, Secretary's Office, 4332 Herrickville Road, Wyalusing, PA 18853.
Township of Terry | Terry Township Building, 1876 Rienze Road, Wyalusing, PA 18853.
Township of Towanda | Township Office, 44 Chapel Street, Towanda, PA 18848.
Township of Troy | Township Office, 961 Gulf Road, Suite 101, Troy, PA 16947.
Township of Tuscarora | Tuscarora Township Building, 2298 Underhill Road, Laceyville, PA 18623.
Township of Ulster | Municipal Building, 24071 Route 220, Ulster, PA 18850.
Township of Warren | Warren Township Municipal Building, 3 Schoolhouse Road, Warren Center, PA 18851.
Township of Wells | Wells Township Building, 7212 Coryland Park Road, Gillett, PA 16925.
Township of West Burlington | Township Building, 13028 Route 6, West Burlington, PA 18810.
Township of Wilmot | Wilmot Township Municipal Building, 4861 Route 187, Sugar Run, PA 18846.
Township of Windham | Windham Township Building, 38846 Route 187, Rome, PA 18837.
Township of Wyalusing | Township Building, 41908 Route 6, Wyalusing, PA 18853.
Township of Wysox | Township Building, 1789 Hillside Drive, Wysox, PA 18854.
Calhoun County, Texas, and Incorporated Areas
Docket No.: FEMA-B-1343
City of Point Comfort | City Hall, 102 Jones Street, Point Comfort, TX 77978.
City of Port Lavaca | City Hall, 202 North Virginia Street, Port Lavaca, TX 77979.
City of Seadrift | City Hall, 501 South Main Street, Seadrift, TX 77983.
Unincorporated Areas of Calhoun County | Calhoun County Courthouse, 211 South Ann Street, Port Lavaca, TX 77979.

(Catalog of Federal Domestic Assistance No. 97.022, “Flood Insurance.”)

Dated: September 29, 2014.
Roy E. Wright,
Deputy Associate Administrator for Mitigation, Department of Homeland Security, Federal Emergency Management Agency.

[FR Doc. 2014-24409 Filed 10-14-14; 8:45 am]

BILLING CODE 9110-12-P